NATIONAL SCIENCE FOUNDATION

Toward Innovative Spectrum-Sharing Technologies: A Technical Workshop on Coordinating Federal Government/Private Sector R&D Investments

AGENCY: The National Coordination Office (NCO) for Networking and Information Technology Research and Development (NITRD).

ACTION: Notice.

FOR FURTHER INFORMATION CONTACT: Wendy Wigen at 703-292-4873 or wigen@nitrd.gov. Individuals who use a telecommunications device for the deaf (TDD) may call the Federal Information Relay Service (FIRS) at 1-800-877-8339 between 8 a.m. and 8 p.m., Eastern time, Monday through Friday.

DATES: July 26, 2011.

SUMMARY: Representatives from Federal research agencies, private industry, and academia will discuss the future research needs for developing innovative spectrum-sharing technologies.

SUPPLEMENTARY INFORMATION: Overview: This notice is issued by the National Coordination Office for the Networking and Information Technology Research and Development (NITRD) Program. Agencies of the NITRD Program are holding a technical workshop to bring together experts from private industry and academia to help “create and implement a plan to facilitate research, development, experimentation, and testing by researchers to explore innovative spectrum-sharing technologies, including those that are secure and resilient.” The workshop will take place on July 26, 2011 from 8:30 a.m. to 5 p.m. MT in Boulder, Colorado at the U.S. Department of Commerce (DOC) Boulder Labs, 325 Broadway, Building 1 Lobby, Boulder, Colorado 80305. This event will be Webcast. For the event agenda and information about the Webcast, go to: http://www.its.bldrdoc.gov/isart/WSRD/.

Background: The dramatic rise of radio frequency-based applications has sparked a new sense of urgency among federal users, commercial service providers, equipment developers, and spectrum management professionals on how best to manage and use the radio spectrum. While near-term solutions such as spectrum re-allocations are critical to meeting national needs, so is the development of the next generation of technologies that can enable more efficient use of the radio spectrum.

NITRD established the Wireless Spectrum Research and Development Senior Steering Group (WSRD-SSG) in late 2010. The committee was asked to identify current spectrum-related research projects funded by the Federal Government, and to work with the non-federal community, including the academic, commercial, and public safety sectors, to implement a plan that “facilitates research, development, experimentation, and testing by researchers to explore innovative spectrum-sharing technologies,” in accordance with the Presidential Memorandum on Unleashing the Wireless Broadband Revolution. WSRD-SSG operates under the auspices of the Networking and Information Technology Research and Development (NITRD) program of the National Coordination Office (NCO), and has recently put together a preliminary inventory of federal R&D in the spectrum arena.

This workshop will present an opportunity for relevant interested parties, including technical experts from private industry and public safety, together with academic researchers, to explore ongoing spectrum-related Federal Government R&D activities as listed in the WSRD-SSG inventory, and offer their expertise on developing recommendations for a wireless technology innovation initiative. We will ask private industry participants to suggest research avenues that they believe are presently underrepresented in federal R&D and that are not being pursued in private industry research laboratories. The focus will be on identifying R&D that may have large potential payoffs for wireless technologies and the nation's economy at large, which are consistent with the Federal Government's role in sponsoring important basic and applied research and development. The workshop will also address possible frameworks for supporting long-term research that may result in yet-to-be-conceived improvements in spectrum utilization.

Submitted by the National Science Foundation for the National Coordination Office (NCO) for Networking and Information Technology Research and Development (NITRD) on June 2, 2011.

Suzanne H. Plimpton,
Management Analyst, National Science Foundation.

[FR Doc. 2011-13943 Filed 6-6-11; 8:45 am]

BILLING CODE 7555-01-P